NUCLEAR REGULATORY COMMISSION

[Docket No. 40-7102]

Notice of Consideration of Amendment Request for Decommissioning for Shieldalloy Metallurgical Corporation, Newfield, NJ and Opportunity to Request a Hearing

AGENCY: Nuclear Regulatory Commission.

ACTION: Notice of amendment request and opportunity to request a hearing.

DATES: A request for a hearing must be filed by January 16, 2007.

FOR FURTHER INFORMATION CONTACT: Ken Kalman, Project Manager, Decommissioning Directorate, Division of Waste Management and Environmental Protection, Office of Federal and State Materials and Environmental Management Programs, U.S. Nuclear Regulatory Commission, Rockville, Maryland 20852. Telephone: (301) 415-6664 fax number: (301) 415-5398; or e-mail: klk@nrc.gov.

SUPPLEMENTARY INFORMATION:

I. Introduction

The U.S. Nuclear Regulatory Commission (NRC) is considering issuance of a license amendment to Source Material License No. SMB-743 issued to Shieldalloy Metallurgical Corporation (SMC or the licensee), to authorize the decommissioning of its Newfield Facility in Newfield, New Jersey. SMC submitted its revised Decommissioning Plan (DP) to NRC on June 30, 2006, and by letter to SMC dated October 18, 2006, the NRC found the DP acceptable to begin a detailed technical review of its adequacy.

II. Background

SMC has been conducting smelting and alloy production at its Newfield site since 1940, including past production of chromium metal, ferrovanadium and columbium nickel. Ferroalloy production began in 1955 and ended in June 1998. The SMC facility processed pyrochlore, a concentrated ore containing columbium (niobium), to produce ferrocolumbium, an additive/conditioner used in the production of speciality steel and super alloy additives. Pyrochlore contains more than 0.05 percent by weight thorium and uranium, and this material is therefore regulated by the NRC as source material. SMC was licensed by the NRC to ship, receive, possess, use and store source material under license SMB-743. In August 2001, SMC notified the NRC that it had ceased production activities using source material. On August 27, 2001, the licensee provided notification of its intent to decommission the facility. The license is in timely renewal, and was amended on November 4, 2002 to authorize only decommissioning activities.

SMC submitted its initial DP to the NRC on October 21, 2005. The DP proposed the use of a possession only license for long term control of the site. The NRC staff rejected the initial DP by letter dated January 26, 2006. The staff met with SMC (in a meeting open to the public) on March 9, 2006, to discuss the initial DP's deficiencies and a path forward for development of an acceptable DP. Pursuant to comments received at the March 2006 meeting, SMC submitted its revised DP by letter dated June 30, 2006.

If the NRC approves the DP, the approval will be documented in an amendment to NRC License No. SMB-743. However, before approving the proposed amendment, the NRC will need to make the findings required by the Atomic Energy Act of 1954, as amended, and NRC's regulations. These findings will be documented in a Safety Evaluation Report and an Environmental Impact Statement.

III. Opportunity to Request a Hearing

The NRC hereby provides notice that this is a proceeding on a proposed license amendment which would approve SMC's revised DP. In accordance with the general requirements in Subpart C of 10 CFR part 2, as amended on January 14, 2004 (69 FR 2182), any person whose interest may be affected by this proceeding and who desires to participate as a party must file a written request for a hearing and a specification of the contentions which the person seeks to have litigated in the hearing.

In accordance with 10 CFR 2.302(a), a request for a hearing must be filed with the Commission either by:

1. First class mail addressed to: Office of the Secretary, U.S. Nuclear Regulatory Commission, Washington, DC 20555-0001, Attention: Rulemakings and Adjudications;

2. Courier, express mail, and expedited delivery services: Office of the Secretary, Sixteenth Floor, One White Flint North, 11555 Rockville Pike, Rockville, MD 20852, Attention: Rulemakings and Adjudications Staff, between 7:45 a.m. and 4:15 p.m., Federal workdays;

3. E-mail addressed to the Office of the Secretary, U.S. Nuclear Regulatory Commission, hearingdocket@nrc.gov; or

4. By facsimile transmission addressed to the Office of the Secretary, U.S. Nuclear Regulatory Commission, Washington, DC, Attention: Rulemakings and Adjudications Staff, at (301) 415-1101; verification number is (301) 415-1966.

In accordance with 10 CFR 2.302(b), all documents offered for filing must be accompanied by proof of service on all parties to the proceeding or their attorneys of record as required by law or by rule or order of the Commission, including:

1. The applicant, Shieldalloy Metallurgical Corporation, 12 West Boulevard, PO Box 768, Newfield, New Jersey 08344-0768. Attention: David R. Smith, Radiation Safety Officer;

2. The NRC staff, by delivery to the Office of the General Counsel, One White Flint North, 11555 Rockville Pike, Rockville, MD 20852, or by mail addressed to the Office of the General Counsel, U.S. Nuclear Regulatory Commission, Washington, DC 20555-0001. Hearing requests should also be transmitted to the Office of the General Counsel, either by means of facsimile transmission to (301) 415-3725, or by e-mail to ogcmailcenter@nrc.gov.

The formal requirements for documents contained in 10 CFR 2.304(b), (c), (d), and (e), must be met. In accordance with 10 CFR 2.304(f), a document filed by electronic mail or facsimile transmission need not comply with the formal requirements of 10 CFR 2.304(b), (c), and (d), as long as an original and two (2) copies otherwise complying with all of the requirements of 10 CFR 2.304 b), (c), and (d) are mailed within two (2) days thereafter to the Secretary, U.S. Nuclear Regulatory Commission, Washington, DC 20555-0001, Attention: Rulemakings and Adjudications Staff.

In accordance with 10 CFR 2.309(b), a request for a hearing must be filed by January 16, 2007.

In addition to meeting other applicable requirements of 10 CFR 2.309, the general requirements involving a request for a hearing filed by a person other than an applicant must state:

1. The name, address, and telephone number of the requester;

2. The nature of the requester's right under the Act to be made a party to the proceeding;

3. The nature and extent of the requester's property, financial or other interest in the proceeding;

4. The possible effect of any decision or order that may be issued in the proceeding on the requester's interest; and

5. The circumstances establishing that the request for a hearing is timely in accordance with 10 CFR 2.309(b).

In accordance with 10 CFR 2.309 (f)(1), a request for hearing or petitions for leave to intervene must set forth with particularity the contentions sought to be raised. For each contention, the request or petition must:

1. Provide a specific statement of the issue of law or fact to be raised or controverted;

2. Provide a brief explanation of the basis for the contention;

3. Demonstrate that the issue raised in the contention is within the scope of the proceeding;

4. Demonstrate that the issue raised in the contention is material to the findings that the NRC must make to support the action that is involved in the proceeding;

5. Provide a concise statement of the alleged facts or expert opinions which support the requester's/petitioner's position on the issue and on which the requester/petitioner intends to rely to support its position on the issue; and

6. Provide sufficient information to show that a genuine dispute exists with the applicant on a material issue of law or fact. This information must include references to specific portions of SMC's revised DP (including the applicant's environmental report) that the requester/petitioner disputes and the supporting reasons for each dispute, or, if the requester/petitioner believes the revised DP fails to contain information on a relevant matter as required by law, the identification of each failure and the supporting reasons for the requester's/petitioner's belief.

In addition, in accordance with 10 CFR 2.309(f)(2), contentions must be based on documents or other information available at the time the petition is to be filed, such as the revised DP, supporting safety analysis report, environmental report or other supporting document filed by the licensee, or otherwise available to the petitioner. On issues arising under the National Environmental Policy Act, the requester/petitioner shall file contentions based on the licensee's environmental report. The requester/petitioner may amend those contentions or file new contentions if there are data or conclusions in the NRC draft, or final environmental impact statement, or any supplements relating thereto, that differ significantly from the data or conclusions in the licensee's documents. Otherwise, contentions may be amended or new contentions filed after the initial filing only with leave of the presiding officer.

Each contention shall be given a separate numeric or alpha designation within one of the following groups:

1. Technical—primarily concerns issues relating to matters discussed or referenced in the Safety Evaluation Report for the proposed action.

2. Environmental—primarily concerns issues relating to matters discussed or referenced in the Environmental Report for the proposed action.

3. Miscellaneous—does not fall into one of the categories outlined above.

If the requester/petitioner believes a contention raises issues that cannot be classified as primarily falling into one of these categories, the requester/petitioner must set forth the contention and supporting bases, in full, separately for each category into which the requester/petitioner asserts the contention belongs with a separate designation for that category.

Requesters/petitioners should, when possible, consult with each other in preparing contentions and combine similar subject matter concerns into a joint contention, for which one of the co-sponsoring requesters/petitioners is designated the lead representative. Further, in accordance with 10 CFR 2.309(f)(3), any requester/petitioner that wishes to adopt a contention proposed by another requester/petitioner must do so in writing within ten days of the date the contention is filed, and designate a representative who shall have the authority to act for the requester/petitioner.

In accordance with 10 CFR 2.309(g), a request for hearing and/or petition for leave to intervene may also address the selection of the hearing procedures, taking into account the provisions of 10 CFR 2.310.

IV. Further Information

Documents related to this action, including the revised DP and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

—Decommissioning Plan dated October 21, 2005: Volume 1 (ML053190220), Volume 2 (ML053340210) and Volume 3 (ML053330384).

—U.S. Nuclear Regulatory Commission's letter rejecting the Decommissioning Plan dated January 26, 2006 (ML060180551)

—Summary of March 9, 2006 Nuclear Regulatory Commission Meeting with Shieldalloy Metallurgical Corporation (ML061070401)

—Shieldalloy Metallurgical Corporation Supplement to Decommissioning Plan dated June 30, 2006 ( ML061980092)

—U.S. Nuclear Regulatory Commission's letter accepting the Decommissioning Plan for technical review dated October 18, 2006 (ML062580126)

If you do not have access to ADAMS or if there are problems in accessing the documents located in ADAMS, contact the NRC Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland this 9th day of November 2006.
For the Nuclear Regulatory Commission.
Rebecca Tadesse,
Branch Chief, Decommissioning Directorate, Division of Waste Management and Environmental Protection, Office of Federal and State Materials and Environmental Management Programs.

[FR Doc. E6-19433 Filed 11-16-06; 8:45 am]

BILLING CODE 7590-01-P